Proclamation 10732 of April 19, 2024

Earth Day, 2024

By the President of the United States of America

A Proclamation

More than 50 years ago today, some 20 million Americans came together across the country to demand that we prioritize our planet's well-being. They came from every walk of life and political background, and were united around a common vision: to protect the Earth and our natural treasures for future generations. Their actions that day ignited an environmental movement and proved that nothing is beyond our capacity if we do it together. Today, we carry on their legacy by building a greener, more sustainable planet and, with it, a healthier, more prosperous Nation.

This work has never been more urgent. Climate change is the existential crisis of our time; no one can deny its impacts and staggering costs anymore. We have seen historic floods from Vermont to Kentucky to California. Droughts and hurricanes are growing more frequent and intense. Wildfires are destroying entire communities and spreading harmful smoky haze for thousands of miles while temperatures keep reaching record highs. Season after season, I have met with families who have lost everything to major storms, wildfires, and other climate disasters, and I have stood with the brave first responders and firefighters who sacrifice so much to protect their neighbors. Deforestation, nature loss, toxic chemicals, and plastic pollution also continue to threaten our air, lands, and waters, endangering our health, other species, and ecosystems. Our actions matter, and together we can protect our planet and our futures.

I am proud that my Administration has made the biggest investment ever to fight climate change. Through the Inflation Reduction Act, we are building a clean energy economy that creates good-paying jobs and investing in research and development here at home. We are building a cleaner, more resilient power grid; expanding solar, wind, nuclear, and geothermal power; and upgrading the transmission system to bring clean electricity to more communities. We are saving families hundreds of dollars per year on their electric bills by providing tax credits to invest in efficient electric heat pumps. We are providing thousands of dollars in tax credits to people who buy new or used electric cars. Additionally, we are supporting farmers and ranchers in the adoption of climate-smart practices like cover crops and rotational grazing to reduce greenhouse gas emissions. Meanwhile, our American Rescue Plan has also helped States and cities become more energy efficient and resilient to extreme weather, including helping people weatherize their homes, restoring wetlands to protect against storm surges and flooding, and opening cooling centers where people can stay safe from extreme heat. We have also made America's biggest investment in infrastructure in generations. As a result, we are expanding our transit and rail systems to reduce traffic and emissions, and we are building a national network of 500,000 electric vehicle charging stations.

When I think about climate change, I think about jobs—the good-paying union jobs that our legislation is creating nationwide in this clean energy revolution. Our historic investments across the clean energy economy are creating good jobs, apprenticeships, and training opportunities for thousands of workers—from manufacturers and electricians to construction workers and linemen. American workers are installing solar panels, servicing wind turbines, capping old oil wells, manufacturing electric vehicles, and more. We are making sure coal and power plant communities, which have powered our economy for decades, have access to these jobs—we will not leave them behind. At the same time, we launched the American Climate Corps, which will put more than 20,000 young Americans to work restoring our lands and waters, deploying clean energy technologies, and helping communities prepare for and rebuild from extreme weather.

We are also bringing clean air, clean water, and clean energy to those who have historically been left behind. Through our Justice40 Initiative, we set a historic goal to direct 40 percent of the overall benefits of Federal clean energy, clean transit, and other investments that fight climate change to communities that are overburdened by pollution and disadvantaged by underinvestment. We set the strongest-ever pollution standards for cars and trucks, which will reduce carbon emissions by more than 7 billion tons while also slashing emissions of other pollutants. We are also tackling pollution from fossil fuel power plants, which have denied many Americans the clean air and water they deserve. We are replacing every lead pipe in America so that everyone can turn on their faucet and drink clean water. We are working to clean up toxic waste sites and partnering with communities to get dangerous “forever chemicals” out of their water supplies.

Today, I am on track to conserve more lands and waters than any President in history—getting us closer to my Administration's historic goal of conserving at least 30 percent of our Nation's lands and waters by 2030. It is a part of our “America the Beautiful” Initiative that supports locally led conservation, protection, and restoration through partnerships with Tribal Nations, local communities, and private landowners. So far, I have protected over 41 million acres of our Nation's lands and waters—from establishing national monuments like Baaj Nwaavjo I'tah Kukveni on the outskirts of the Grand Canyon and Camp Hale high in the Colorado Rockies, to strengthening protections for treasures like the Tongass National Forest and Bristol Bay in Alaska. These majestic places unite and inspire us and should be preserved for the ages. To restore and protect the health of our ocean, my Administration is advancing America's first-ever Ocean Climate Action Plan, accelerating offshore wind energy development, and working to designate new national marine sanctuaries in California and the Pacific Remote Islands.

Climate change is a global issue. Certainly no one nation can tackle the climate crisis alone; we have to work together. On my first day in office, I immediately rejoined the Paris Climate Accord, reclaiming American leadership in this critical work. We have rallied the international community to tackle vital climate challenges, including collaborating with over 150 nations to commit to slashing methane emissions and over 140 nations to commit to halting and reversing forest loss by 2030 as we find new ways to boost resilience, strengthen our economies, and sustain our planet. Last year, the United States galvanized other countries to agree for the first time to transition away from the fossil fuels that jeopardize the health of our people and planet. Through our Women in the Sustainable Economy Initiative, we are working to ensure that women around the world have access to good-paying jobs in sectors such as clean energy, fisheries, recycling, forest management, and environmental conservation, that are critical to our future. By pledging a historic $3 billion to the Green Climate Fund to help reduce emissions and boost climate resilience in developing countries, we are catalyzing further global action.

Last fall, we released the Fifth National Climate Assessment, our Government's preeminent report on the impacts, risks, and responses to climate change nationwide and a go-to resource on emerging climate solutions. Together—climate activists and business leaders; farmers, manufacturers, union workers, and Indigenous communities; courageous young people; and anyone concerned about the future we leave for our kids—we can make the changes needed to protect our planet. America has emerged from every crisis we have ever faced stronger than when we went in. We can do that now for the world. On Earth Day, I urge everyone to do their part in that fight.

NOW, THEREFORE, I, JOSEPH R. BIDEN JR., President of the United States of America, by virtue of the authority vested in me by the Constitution and the laws of the United States, do hereby proclaim April 22, 2024, as Earth Day. Today, I encourage all Americans to reflect on the need to protect our precious planet; to heed the call to combat our climate and biodiversity crises while growing the economy; and to keep working for a healthier, safer, more equitable future for all.

IN WITNESS WHEREOF, I have hereunto set my hand this nineteenth day of April, in the year of our Lord two thousand twenty-four, and of the Independence of the United States of America the two hundred and forty-eighth.

[FR Doc. 2024-08911

Filed 4-23-24; 8:45 am]

Billing code 3395-F4-P